DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Access to Recovery (ATR) Program (OMB No. 0930-0266)—Revision

The Center for Substance Abuse Treatment (CSAT) is charged with implementing the Access to Recovery (ATR) program which will allow grantees (States, Territories, the District of Columbia and Tribal Organizations) a means to implement voucher programs for substance abuse clinical treatment and recovery support services. The ATR program is part of a Presidential initiative to: (1) Provide client choice among substance abuse clinical treatment and recovery support service providers, (2) expand access to a comprehensive array of clinical treatment and recovery support options (including faith-based programmatic options), and (3) increase substance abuse treatment capacity. Monitoring outcomes, tracking costs, and preventing waste, fraud and abuse to ensure accountability and effectiveness in the use of Federal funds are also important elements of the ATR program. Grantees, as a contingency of their award, are responsible for collecting Voucher Information (VI) [OMB (OMB No. 0930-0266); Expiration Date 05/31/2011] and Voucher Transaction (VT)[(OMB No. 0930-0266; 05/31/2011)] data from their clients.

The primary purpose of this data collection activity is to meet the reporting requirements of the Government Performance and Results Act (GPRA) by allowing SAMHSA to quantify the effects and accomplishments of SAMHSA programs. The following table is an estimated annual response burden for this effort.

Estimates of Annualized Hour Burden ¹
Center/form/respondent type | Number of respondent | Responses per respondent | Total responses | Hours per response | Total hour burden | Total wage cost | Total hour cost/ respondent ¹
Voucher information and transaction | 53,333 | 1.5 | 80,000 | .03 | 2,400 | $18.40 | $44,160
¹ This table represents the maximum additional burden if adult respondents for ATR provide responses/data at an estimated hourly wage (from 2010 Bureau of Labor Statistics).

Written comments and recommendations concerning the proposed information collection should be sent by June 8, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: April 29, 2011.
Elaine Parry,
Director, Office of Management, Technology and Operations.

[FR Doc. 2011-11198 Filed 5-6-11; 8:45 am]

BILLING CODE 4162-20-P